DEPARTMENT OF THE INTERIOR

National Park Service

General Management Plan; Hawaii Volcanoes National Park Hawaii; Notice of Intent To Prepare an Environmental Impact Statement

SUMMARY: In accord with section 102(2)(C) of the National Environmental Policy Act of 1969 (42 U.S.C. 4321, et seq.), the National Park Service (NPS) is undertaking a conservation planning and environmental impact analysis process for updating the General Management Plan (GMP) for Hawaii Volcanoes National Park. The new GMP will include a wilderness eligibility assessment for the recently accessioned Kahuku District to evaluate if lands are potentially eligible for wilderness designation, as required by NPS Management Policies 2006 for newly acquired lands. The GMP will also outline a commercial services strategy to identify the appropriate role of commercial operators in helping the park provide opportunities for visitor use and enjoyment. An Environmental Impact Statement (EIS) will be prepared concurrently with the GMP. The GMP is intended to set forth the basic management philosophy for this unit of the National Park System and provide the strategies for addressing issues and achieving identified management objectives for that unit. The GMP serves as a “blueprint” to guide management of natural and cultural resources and visitor use during the next 15-20 years. One or more development concept plans, which guide more detailed, site-specific preservation and development, may also be included with the GMP.

Consistent with NPS Planning Program Standards, the updated GMP will: (1) Describe the park's purpose, significance, and primary interpretive themes; (2) identify the fundamental resources and values of the park, its other important resources and values, and describe the condition of these resources; (3) describe desired conditions for cultural and natural resources and visitor experiences throughout the park; (4) develop management zoning to support these desired conditions; (5) develop alternative applications of these management zones to the park's landscape (i.e. zoning alternatives); (6) address user capacity; (7) analyze potential boundary modifications; (8) ensure that management recommendations are developed in consultation with interested stakeholders and the public and adopted by NPS leadership after an adequate analysis of the benefits, environmental impacts, and economic costs of alternative courses of action; (9) develop cost estimates implementing each of the alternatives; and (10) identify and prioritize subsequent detailed studies, plans and actions needed to implement the updated GMP.

Scoping Process: The purpose of scoping outreach efforts is to elicit early public comment regarding issues and concerns, the nature and extent of potential environmental impacts (and as appropriate, mitigation measures), and preliminary alternatives which should be considered for the plan update. Through the outreach activities planned in the scoping phase, the NPS welcomes information and suggestions from the public regarding resource protection, visitor use, and land management. This notice formally initiates the public scoping comment phase for the EIS process. Questions to be asked during public scoping include: (1) What do you value most about Hawaii Volcanoes National Park? (2) What do you think are the important issues facing the park? (3) Imagine you are visiting Hawaii Volcanoes National Park 20 years from now: Describe what you would like to experience. (4) Do you feel that the purpose and significance statements capture the essence of Hawaii Volcanoes National Park? (5) Other comments or concerns you would like to share?

All scoping comments must be postmarked or transmitted no later than June 30, 2009. You may submit your comments electronically through the NPS Planning, Environment and Public Comment Web site http://parkplanning.nps.gov/havo (select the General Management Plan from the list of projects). If it is more convenient, or if you do not have access to a computer, you can hand-deliver your comments (see below) or send your written comments to: General Management Plan, Hawaii Volcanoes National Park, Attn: Cindy Orlando, Superintendent, Hawaii Volcanoes National Park, P.O. Box 52, Hawaii National Park, HI 96718-0052.

Before including your address, phone number, e-mail address, or other personal identifying information in your comment, you should be aware that your entire comment—including your personal identifying information—may be made publicly available at any time. While you can ask us in your comment to withhold your personal identifying information from public review, we cannot guarantee that we will be able to do so.

Starting in late April a series of open houses will be hosted on Hawaii Island (including Hilo, Volcano, Naalehu and Kailua-Kona), one on Maui, and one on Oahu in Honolulu. Detailed information including times and specific locations for these meetings will be posted on the GMP Web site http://www.nps.gov/havo/parkmgmt/plan.htm. All attendees will be given the opportunity to ask questions and provide comments to the planning team. The GMP Web site will provide the most up-to-date information regarding the project, including project description, planning process updates, meeting notices, reports and documents, and useful links associated with the project.

SUPPLEMENTARY INFORMATION: Hawaii Volcanoes National Park (park) was established in 1916 and is operating with a 30-plus year-old Master Plan written in 1975. Numerous major changes have occurred in NPS management, policy, land ownership, and practices that directly affect the park. The park needs a comprehensive management document that will address these changes and further develop strategies to protect, maintain or restore resources and address visitor access, services, and development. The following issues are among those to be addressed in updating the GMP:

Park Visitation and Visitor Facilities—Approximately 1.6 million people visit the park each year. Since 1983, lava flows have destroyed a number of facilities including a visitor center, campground, ranger residences, and have covered cultural sites, trails, and miles of highway. Changes in volcanic activity and gas emissions require creative management to protect visitor health and safety, while encouraging access and promoting outstanding visitor experiences.

Transportation, Circulation, and Congestion—Current transportation options and infrastructure do not meet the needs of many visitors and result in congestion at several popular destinations, including sections of Crater Rim Drive such as Thurston Lava Tube (Nahuku). Volcanic events have led to closures of park roads and may continue to disrupt established travel patterns. The location, capacity, and condition of park roads, parking lots, trails, and other infrastructure should be evaluated in relation to visitor needs as well as resource protection goals.

Natural Resource Preservation, Restoration, and Research—The park is home to an amazing diversity of life, including 54 species that are Federally listed as threatened or endangered. Invasive species are an overriding concern at the park—they degrade natural ecosystems, reduce the richness of flora and fauna, and threaten the survival of the park's unique biodiversity. There is an on-going need for adequate staffing, funding, and facilities. Improving the capacity of the park to protect its native plants, animals, and natural processes requires innovative management. The park is also home to pioneering research studies and an active research community. The GMP will explore opportunities for the park to continue to expand its capacity to preserve and perpetuate natural resources through stewardship and research activities. A separate EIS effort was initiated in 2008 that is specifically focused on managing non-native ungulates and consequent restoration of native ecosystems and cultural resources affected by ungulates.

Cultural Resource Protection and Management—The park has many significant cultural landscapes, historic structures, archeological sites, ethnographic resources, and museum collections. There are also many places in the park that are culturally significant to Native Hawaiians and are used for ongoing traditional use. Managing these resources presents challenges—such as protection from visitor impacts, weathering, and vandalism, as well as insuring funding for preservation and education. Incorporating Native Hawaiian values and ongoing traditional use into future park planning will be addressed.

Climate Change—Global climate change may potentially lead to changes in local weather patterns, wildfire frequency, distribution of plant and animal communities, hurricane frequency, sea level, and increased avian disease. Pro-active planning and management actions can help the park adjust to climate change, interpret changing conditions to the public, reduce the effects on park resources, operations and visitors, and reduce emissions from park operations to the extent feasible and possible.

Sustainable Operations and Facilities—Managing a park sitting astride two active volcanoes presents many challenges. Volcanic activity has destroyed a number of operational and maintenance facilities. Today, the remaining facilities are scattered throughout the park, often in outdated structures that were not intended for these uses and may not be sustainable or efficient. The uncertainty of future volcanic activity and concerns about health and safety require operational and emergency procedures that are flexible and responsive to changing conditions.

Partnership Development—Partnerships, both inside and outside park boundaries, have greatly expanded the park's capacity to fulfill its mission and greatly enhance the quality of services provided. The park is currently working with private entities, various governmental agencies and non-profit organizations in local, regional, and landscape level conservation partnerships, such as the park's involvement in the Three Mountain Alliance and their close relationship with Hawaiian Volcano Observatory and the Pacific Island Ecosystem Research Center. Non-profit organizations also provide a range of services within the park, including visitor guided tours and educational programs, and cultural and natural resource service projects.

Business Relationships—Commercial service operators provide a range of visitor amenities within the park, including food service and lodging, guided tours and educational programs. The GMP will explore how the park can improve visitor experiences by promoting commercial services that are necessary and appropriate to support visitor needs.

Park Boundary—Activities adjacent to the park's boundaries have the potential to impact sensitive park resources. Planning for the next 15-20 years prompts pro-active thinking about best protecting the park's fundamental resources and values. In addition, the Olaa rainforest area is managed by the NPS, but is not part of the official park boundary. The GMP will consider any potential for recommendations for boundary changes.

Kahuku District—The park increased significantly in 2003 when the 116,000 acre Kahuku area was acquired. There are currently no visitor facilities at Kahuku and highway access needs to be analyzed. Resource inventory and monitoring has begun. Planning for the Kahuku District is essential for developing a cohesive vision for the entire park. Also, a wilderness eligibility assessment for the Kahuku District, as required by NPS management policy, will be included in the GMP. The park currently contains 131,542 acres of Congressionally designated Wilderness. A separate Wilderness Management Plan will be prepared following completion of the GMP update.

Decision Process: Following the scoping phase and consideration of public concerns and other agency comments, a Draft EIS will be prepared and released for public review. Availability of the forthcoming Draft EIS/GMP will be formally announced in the Federal Register, as well as through local and regional news media, direct mailing to the project mailing list, and via the Internet. Following due consideration of all agency and public comment as may be received, a Final EIS will be prepared; at this time it is anticipated that the final proposed plan will be available in 2013. As a delegated EIS, the official responsible for the final decision on the proposed plan is the Regional Director, Pacific West Region. Subsequently, the official responsible for implementation of the approved plan is the Superintendent, Hawaii Volcanoes National Park.

Dated: February 19, 2009.
Jonathan B. Jarvis,
Regional Director, Pacific West Region.

[FR Doc. E9-8192 Filed 4-10-09; 8:45 am]

BILLING CODE